DEPARTMENT OF JUSTICE

Notice of Lodging of Proposed Consent Decree Under the Resource Conservation and Recovery Act, the Clean Air Act, the Comprehensive Environmental Response, Compensation, and Liability Act, and the Emergency Planning and Community Right-To-Know Act

On July 11, 2023, the Department of Justice lodged a proposed consent decree with the United States District Court for the District of Wyoming in the lawsuit entitled United States of America v. J.R. Simplot Company, Civil Action No. 1:23-cv-322. If approved by the court, the consent decree would resolve the claims of the United States against J.R. Simplot Company (Simplot) for injunctive relief and civil penalties for alleged violations of the Resource Conservation and Recovery Act (RCRA); for injunctive relief and civil penalties for alleged violations of the Clean Air Act (CAA); and for civil penalties for alleged violations of the Comprehensive Environmental Response, Compensation, and Liability Act (CERCLA) and Emergency Planning And Community Right-To-Know Act (EPCRA), at Simplot's phosphoric acid and fertilizer manufacturing plant located near Pocatello, Idaho, known as the Don Plant. The consent decree would require Simplot to (1) implement compliance projects at the Don Plant; (2) comply with specified requirements for management of wastes or other materials at the facility and in the facility's phosphogypsum stack system, (3) comply with specified requirements for the eventual closure and long-term care of the facility, and provide financial assurance to cover the estimated cost of such obligations; and (4) continue groundwater and surface monitoring and reporting—monitoring and reporting that is currently required by a prior CERCLA consent decree under which Simplot also is required to implement remedial measures to address the release of hazardous substances into the environment as a result of past operations at the facility; and (5) comply with specified operational practices for air emissions controls, and replace the existing cooling towers by June 2026 with cooling pond(s) to reduce fluoride emissions into the air from the Don Plant, subject to a contingency that, if applicable, alternatively requires implementation of an EPA-approved plant to reduce fluoride emissions to the greatest extent practicable. The consent decree would also require Simplot to revise the annual Toxic Chemical Release Inventory Reporting Forms it submitted under EPCRA for years 2004-2012 to include estimates of compounds that previously were not included in those reports. In addition, the consent decree would require Simplot to pay a civil penalty of $1.5 million. In return for Simplot's compliance with these requirements, the consent decree would resolve past RCRA, CAA, CERCLA, and EPCRA violations at the Don Plant that the United States' complaint alleges. Provided that Simplot remains in compliance with consent decree's requirements for the management of wastes or other materials, under the consent decree the United States would also covenant not to sue Simplot under RCRA for its management of wastes or other materials at the Don Plant facility.

The publication of this notice opens a period for public comment on the consent decree. Comments should be addressed to the Assistant Attorney General, Environment and Natural Resources Division, and should refer to United States of America v. J.R. Simplot Company, D.J. Ref. No. 90-7-1-08388/23. All comments must be submitted no later than thirty (30) days after the publication date of this notice. Comments may be submitted either by email or by mail:

To submit comments: | Send them to:
By email | pubcomment-ees.enrd@usdoj.gov.
By mail | Assistant Attorney General U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $127.25 (25 cents per page reproduction cost) payable to the United States Treasury. For a paper copy without the Appendices and signature pages, the cost is $18.25.

Kathryn C. Macdonald,
Assistant Section Chief, Environmental Enforcement Section, Environment and Natural Resources Division.

[FR Doc. 2023-15046 Filed 7-14-23; 8:45 am]

BILLING CODE 4410-15-P